DEPARTMENT OF DEFENSE

Office of the Secretary

[Transmittal No. 17-46]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-46 with attached Policy Justification and Sensitivity of Technology.

Dated: October 17, 2017.
Aaron Siegel,
Alternate OSD Federal Register Liaison Officer, Department of Defense.

BILLING CODE 5001-06-P

BILLING CODE 5001-06-C

Transmittal No. 17-46

Notice of Proposed Issuance of Letter of Offer Pursuant to Section 36(b)(1) of the Arms Export Control Act, as amended

(i) Prospective Purchaser: The Government of the Netherlands

(ii) Total Estimated Value:

Major Defense Equipment * | $48 million
Other | $ 5 million
Total | $53 million

(iii) Description and Quantity or Quantities of Articles or Services under Consideration for Purchase:

Major Defense Equipment (MDE):

Twenty-six (26) AIM-120 C-7 Advanced Medium Range Air-to-Air Missiles (AMRAAM)

One (1) AMRAAM Spare Guidance Section

Non-MDE:

Twenty (20) AMRAAM Captive Air Training Missiles (CATM), missile containers, control section spares, weapon systems support, test equipment, spare and repair parts, publications and technical documentation, personnel training, training equipment, U.S. Government and contractor engineering, logistics, technical support services, and other related elements of logistics and program support.

(iv) Military Department: Air Force (X7-D-YAE)

(v) Prior Related Cases, if any: NE-D-YME for two hundred (200) AIM-120B

(vi) Sales Commission, Fee, etc., Paid, Offered, or Agreed to be Paid: None

(vii) Sensitivity of Technology Contained in the Defense Article or Defense Services Proposed to be Sold: See Attached Annex

(viii) Date Report Delivered to Congress: October 11, 2017

* As defined in Section 47(6) of the Arms Export Control Act.

POLICY JUSTIFICATION

Government of the Netherlands—AIM-120 C-7 Advanced Medium Range Air-to-Air Missile (AMRAAM)

The Government of the Netherlands has requested a possible sale of twenty-six (26) AIM-120 C-7 Advanced Medium Range Air-to-Air Missiles (AMRAAM), one (1) AMRAAM Guidance Section Spare (MDE items), twenty (20) AMRAAM Captive Air Training Missiles (CATM), missile containers, control section spares, weapon systems support, test equipment, spare and repair parts, publications and technical documentation, personnel training, training equipment, U.S. Government and contractor engineering, logistics, technical support services, and other related elements of logistics and program support. The estimated total case value is $53 million.

This proposed sale will support the foreign policy and national security objectives of the United States by helping to improve the security of a NATO Ally which continues to be an important force for political stability and economic progress in Europe.

The proposed sale will improve the Netherland's capabilities for mutual defense, regional security, force modernization, and U.S. and NATO interoperability. This sale will enhance the Royal Netherlands Air Force's ability to defend the Netherlands against future threats and contribute to current and future NATO operations. The Netherlands maintains the AIM-120B in its inventory and will have no difficulty absorbing these missiles into its armed forces.

The proposed sale of this equipment will not alter the basic military balance in the region.

The prime contractor will be Raytheon Missile Systems, Tucson, AZ. There are no known offset agreements proposed in connection with this potential sale.

Implementation of this proposed sale will not require the assignment of any additional U.S. Government personnel or contractor representatives to the Netherlands.

There will be no adverse impact on U.S. defense readiness as a result of this proposed sale.

Transmittal No. 17-46

Notice of Proposed Issuance of Letter of Offer Pursuant to Section 36(b)(1) of the Arms Export Control Act

Annex

Item No. vii

(vii) Sensitivity of Technology:

1. AIM-120C Advanced Medium Range Air-to-Air Missile (AMRAAM) is a radar-guided missile featuring digital technology and micro-miniature solid-state electronics. AMRAAM capabilities include look-down/shoot-down, multiple launches against multiple targets, resistance to electronic counter measures, and interception of high flying, low flying, and maneuvering targets. The AMRAAM is classified CONFIDENTIAL, major components and subsystems range from UNCLASSIFIED to CONFIDENTIAL, and technology data and other documentation are classified up to SECRET.

2. If a technologically advanced adversary obtains knowledge of the specific hardware and software elements, the information could be used to develop countermeasures or equivalent systems that might reduce weapon system effectiveness or be used in the development of a system with similar or advanced capabilities.

3. A determination has been made that the Government of the Netherlands can provide substantially the same degree of protection for the sensitive technology being released as the U.S. Government. This proposed sale is necessary to the furtherance of the U.S. foreign policy and national security objectives outlined in the policy justification.

4. All defense articles and services listed in this transmittal are authorized for release and export to the Government of the Netherlands.

[FR Doc. 2017-22867 Filed 10-20-17; 8:45 am]

BILLING CODE 5001-06-P